DEPARTMENT OF TRANSPORTATION

Surface Transportation Board

[Docket No. FD 35463; Docket No. AB 1043 (Sub-No. 1)]

Montreal, Maine & Atlantic Railway, Ltd.—Modified Rail Certificate—in Aroostook and Penobscot Counties, Me.; Montreal, Maine & Atlantic Railway, Ltd.—Discontinuance of Service and Abandonment—in Aroostook and Penobscot Counties, ME.

Montreal, Maine & Atlantic Railway, Ltd. (MMA) has requested a modified certificate of public convenience and necessity, pursuant to 49 CFR part 1150 subpart C—Modified Certificate of Public Convenience and Necessity. MMA wants to operate, on an interim basis, approximately 233 miles of rail line in Aroostook and Penobscot Counties, Me. This line was the subject of the abandonment application granted by the Board in Montreal, Maine & Atlantic Railway, Ltd.—Discontinuance of Service and Abandonment—in Aroostook and Penobscot Counties, Me., AB 1043 (Sub-No. 1) (STB served Dec. 27, 2010).¹

¹ Specifically, the application, as amended, identified the line to be abandoned as comprising: (1) The Madawaska Subdivision, consisting of approximately 151 miles of line between milepost 109 near Millinocket and milepost 260 near Madawaska in Penobscot and Aroostook Counties; (2) the Presque Isle Subdivision, consisting of approximately 25.3 miles of line between milepost 0.0 near Squa Pan and milepost 25.3 near Presque Isle in Aroostook County; (3) the Fort Fairfield Subdivision, consisting of approximately 10 miles of line between milepost 0.0 near Presque Isle and milepost 10.0 near Easton in Aroostook County; (4) the Limestone Subdivision, consisting of approximately 29.85 miles of line between milepost 0.0 near Presque Isle and milepost 29.85 near Limestone in Aroostook County and; (5) the Houlton Subdivision, running between milepost 0.0 near Oakfield and milepost 17.27 near Houlton in Aroostook County, and including the B Spur.

The State of Maine, by and through its Department of Transportation (State), actively sought to preserve service on the line. To that end, the State, with Board help, reached an agreement to purchase the line from MMA. Should the Board grant MMA abandonment authority, the State proposed to acquire the line pursuant to the class exemption found in Common Carrier Status of States, State Agencies and Instrumentalities, and Political Subdivisions, 363 I.C.C. 132 (1980) (Common Carrier), aff'd sub nom. Simmons v. ICC, 697 F.2d 326 (DC Cir. 1982) and codified at 49 CFR 1150.22. The State also proposed to find a new operator. MMA agreed to the State's proposal, agreed to provide interim service until the new operator can begin operations, and requested that the Board issue a modified certificate in regards to the interim service.

In its December 27, 2010 decision granting MMA's application to abandon the line, the Board found that MMA already met a number of criteria necessary for the issuance of a modified certificate. Specifically, the Board found that the parties had provided: (1) The name and address of the operator, MMA; (2) the information on the abandonment giving rise to the acquisition by the State; (3) the proposed operation by MMA, and (4) a statement by MMA that it will receive no subsidies in connection with its operations, and that there will be no preconditions that shippers must meet to receive service.

The Board granted the certificate to provide interim service in the December 27, 2010 decision, but it required that MMA submit into the record the parties' Interim Service Agreement and information on MMA's liability insurance coverage. Once this information has been filed and the State has acquired the line, the Board stated that the modified certificate would become effective and appropriate notice pursuant to 49 CFR 1150.23 would be published in the Federal Register.

On January 18, 2011, MMA filed the requisite data and averred that it conveyed the line to the State on January 14, 2011. MMA's modified certificate has become effective, and it may provide interim service under the certificate.

This notice will be served on the Association of American Railroads (Car Service Division) as agent for all railroads subscribing to the car-service and car-hire agreement at 425 Third Street, SW., Suite 1000, Washington, DC 20024; and on the American Short Line and Regional Railroad Association at 50 F Street, NW., Suite 7020, Washington, DC 20001.

Board decisions and notices are available on our Web site at http://www.stb.dot.gov.

Decided: January 24, 2011.
By the Board, Rachel D. Campbell, Director, Office of Proceedings.
Jeffrey Herzig,
Clearance Clerk.

[FR Doc. 2011-2004 Filed 1-31-11; 8:45 am]

BILLING CODE 4915-01-P